DEPARTMENT OF COMMERCE

International Trade Administration

[A-602-807]

Certain Uncoated Paper From Australia: Negative Final Determination of Circumvention of the Antidumping Duty Order for Certain Uncoated Paper Rolls

AGENCY: Enforcement and Compliance, International Trade Administration, Department of Commerce.

SUMMARY: The U.S. Department of Commerce (Commerce) determines that imports of certain uncoated paper rolls from Australia were not completed by conversion into subject sheets of paper in the United States and, therefore, such imports are not circumventing the antidumping duty (AD) order on certain uncoated paper from Australia, within the meaning of section 781(a) of the Tariff Act of 1930, as amended (the Act).

DATES: Applicable November 10, 2022.

FOR FURTHER INFORMATION CONTACT: Genevieve Coen, AD/CVD Operations, Office V, Enforcement and Compliance, International Trade Administration, U.S. Department of Commerce, 1401 Constitution Avenue NW, Washington, DC 20230; telephone: (202) 482-3251.

SUPPLEMENTARY INFORMATION:

Background

On January 27, 2021, Commerce published in the Federal Register its preliminary negative circumvention determination ¹ finding that imports of certain uncoated paper rolls from Australia were not completed by conversion into sheets subject to the Order ² during the inquiry period. During August and September 2022, Commerce verified the questionnaire responses of the sole producer/exporter of certain uncoated paper rolls, Paper Australia Pty. Ltd., and its U.S. affiliate, Paper Products Marketing (USA) Inc.³ No interested parties submitted case briefs.

¹ See Certain Uncoated Paper from Australia: Negative Preliminary Determination of Circumvention of the Antidumping Duty Order for Uncoated Paper Rolls, 86 FR 7256 (January 27, 2021), and accompanying Preliminary Decision Memorandum (PDM).

² See Certain Uncoated Paper from Australia, Brazil, Indonesia, the People's Republic of China, and Portugal: Amended Final Affirmative Antidumping Determinations for Brazil and Indonesia and Antidumping Duty Orders, 81 FR 11174 (March 3, 2016) (Order).

³ See Memoranda, “Verification of Paper Australia Pty. Ltd.'s Responses,” dated September 21, 2022; and “Verification of Paper Products Marketing (USA) Inc.,” dated September 21, 2022.

Scope of the Order

The merchandise subject to this Order includes uncoated paper in sheet form; weighing at least 40 grams per square meter but not more than 150 grams per square meter; that either is a white paper with a GE brightness level ⁴ of 85 or higher or is a colored paper; whether or not surface-decorated, printed (except as described below), embossed, perforated, or punched; irrespective of the smoothness of the surface; and irrespective of dimensions (Certain Uncoated Paper).

⁴ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

On September 1, 2017, Commerce determined that imports of uncoated paper with a GE brightness of 83 +/−1% (83 Bright paper), otherwise meeting the description of in-scope merchandise, constitute merchandise “altered in form or appearance in minor respects” from in-scope merchandise that are subject to this Order.⁵

⁵ See Certain Uncoated Paper from Australia, Brazil, the People's Republic of China, Indonesia, and Portugal: Affirmative Final Determination of Circumvention of the Antidumping and Countervailing Duty Orders, 82 FR 41610 (September 1, 2017).

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the Order is dispositive.

Merchandise Subject to the Circumvention Inquiry

This circumvention inquiry covers certain uncoated paper rolls that are commonly, but not exclusively, known as “sheeter rolls,” from Australia that are further processed in the United States into individual sheets of uncoated paper that would otherwise be subject to the Order (i.e., paper that weighs at least 40 grams per square meter but not more than 150 grams per square meter; and that either is a white paper with a GE brightness level of 83 +/−1% or higher or is a colored paper (as defined above)). The uncoated paper rolls covered by this inquiry are able to be converted into sheets of uncoated paper using specialized cutting machinery prior to printing, and are typically, but not exclusively, between 52 and 103 inches wide and 50 inches in diameter. The paper rolls covered by this inquiry are classified under HTSUS subheading 4802.55.

Methodology

Commerce conducted this circumvention inquiry in accordance with section 781(a) of the Act.⁶ We have continued to apply this methodology, and incorporate by reference this description of the methodology, for our final determination.

⁶ See Preliminary Results PDM for a full description of the methodology.

Final Determination

We determine that the uncoated paper rolls from Australia that are subject to this inquiry are not being completed by conversion in the United States into sheets of uncoated paper that would otherwise be subject to the Order. Therefore, these exports to the United States of uncoated paper rolls from Australia are not circumventing the Order.

Administrative Protective Order

This notice will serve as the only reminder to all parties subject to an administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is issued and published in accordance with section 781(a) of the Act and 19 CFR 351.225(g).

Dated: November 4, 2022.
Lisa W. Wang,
Assistant Secretary for Enforcement and Compliance.

[FR Doc. 2022-24605 Filed 11-9-22; 8:45 am]

BILLING CODE 3510-DS-P